DEPARTMENT OF ENERGY

[Number DE-PS07-02ID14278]

Chemical Industry of the Future

AGENCY: Idaho Operations Office, DOE.

ACTION: Notice of availability of financial assistance solicitation.

SUMMARY: The U.S. Department of Energy (DOE) Idaho Operations Office (ID) is seeking applications for cost shared research and development (R&D) of technologies which will reduce energy consumption, enhance economic competitiveness, and reduce environmental impacts of the domestic chemical industry. The research is to address priorities identified by the U.S. chemical industry in Technology Vision 2020: The U.S. Chemical Industry and associated technology roadmaps.

DATES: The issuance date of Solicitation Number DE-PS07-02ID14278 will be on or about January 21, 2002. The deadline for receipt of applications will be approximately on April 24, 2002.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Seb Klein, Contract Specialist, kleinsm@id.doe.gov.

SUPPLEMENTARY INFORMATION: Approximately $3 million in federal funds are expected to be available to fund the first 12 months of selected research projects. Subject to the availability of funds, approximately $6 million is planned to fund the remaining years of the projects. DOE anticipates making 6 to 8 cooperative agreement awards, each with a duration of three to five years or less. A minimum of three industrial chemical companies must be involved. Collaborations among industry, university, and National Laboratory participants are encouraged. The statutory authority for the program is the Federal Non-Nuclear Energy Research and Development Act of 1974 (Pub. L. 93-577). The Catalog of Federal Domestic Assistance (CFDA) Number for this program is 81.086.

Issued in Idaho Falls on January 15, 2002.
R. J. Hoyles,
Director, Procurement Services Division.

[FR Doc. 02-1744 Filed 1-23-02; 8:45 am]

BILLING CODE 6450-01-P